FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Division of the Department of Justice. Neither agency intends to take any action with respect to these proposed acquisitions during the applicable waiting period.

Trans # | Acquiring | Acquired | Entities
TRANSACTIONS GRANTED EARLY TERMINATION—05/13/2002
20020730 | E*Trade Group, Inc | Tradescape Corp | Tradescape Momentum Holdings, Inc. Tradescape Technology Holdings, Inc.
TRANSACTIONS GRANTED EARLY TERMINATION—05/14/2002
20020698 | Alcoa Inc | Ivex Packaging Corporation | Ivex Packaging Corporation
20020719 | Eagle-Tribune Publishing Company | Dow Jones & Company, Inc | Essex County Newspapers, Inc. Ottoway newspapers, Inc. The Mail Tribune, Inc.
20020723 | EnCana Corporation | El Paso Corporation | Coastal Oil & Gas Resources El Paso Production Oil & Gas Company
20020724 | Solectron Corporation | Lucent Technologies, Inc | Lucent Technologies, Inc.
20020728 | Inverness/Phoenix Partners LP | Kellstrom Industries, Inc. (debtor-in-possession) | Kellstrom Industries, Inc. (debtor-in-possession)
TRANSACTIONS GRANTED EARLY TERMINATION—05/15/2002
20020733 | Level 3 Communications, Inc | Software Spectrum, Inc | Software Spectrum, Inc.
TRANSACTIONS GRANTED EARLY TERMINATION—05/16/2002
20020727 | King Pharmaceuticals, Inc | Johnson & Johnson | Ortho-McNeil Pharmaceutical, Inc.
20020737 | Mentor Graphics Corporation | Innoveda, Inc | Innoveda, Inc.
TRANSACTIONS GRANTED EARLY TERMINATION—05/20/2002
20020721 | Jabil Circuit, Inc | Compaq Computer Corporation | Compaq Computer Corporation
20020736 | GTCR Fund VI, L.P | Robert G. Owens | Millennium Holdings I, LLC
20020747 | Intuit Inc | CBS Employer Services, Inc | CBS Employer Services, Inc.
20020755 | MBNA Corporation | Ohio Savings Financial Corporation | Ohio Savings Bank
TRANSACTIONS GRANTED EARLY TERMINATION—05/22/2002
20020741 | Morgan Stanley Dean Witter Capital Partners IV, L.P | Louis A. Weiss Memorial Hospital | Louis A. Weiss Memorial Hospital
20020746 | General Electric Company | Panametrics, Inc | Panametrics, Inc.
20020758 | Grupo IMSA, S.A. de C.V. | Material Sciences Corporation | MSC Pinole Point Steel Inc. MSC Pre Finish Metals Inc.
TRANSACTIONS GRANTED EARLY TERMINATION—05/23/2002
20020735 | Schering Aktiengesellschaft | Collateral Therapeutics, Inc | Collateral Therapeutics, Inc.
TRANSACTIONS GRANTED EARLY TERMINATION—05/24/2002
20020744 | MiTAC International Corp | Arrow Electronics, Inc | Arrow Electronics, Inc.
20020790 | Sears, Roebuck and Co | Gary C. Comer | Land's End, Inc.

FOR FURTHER INFORMATION CONTACT: Sandra M. Peay, or Chandra L. Kennedy, Contact Representatives. Federal Trade Commission, Premerger Notification Office, Bureau of Competition, Room 303, Washington, DC 20580, (202) 326-3100.

By Direction of the Commission.
Donald S. Clark,
Secretary.

[FR Doc. 02-14335 Filed 6-6-02; 8:45 am]

BILLING CODE 6750-01-M